DEPARTMENT OF JUSTICE

Drug Enforcement Administration

Manufacturer of Controlled Substances; Notice of Application; Cayman Chemical Company

Pursuant to § 1301.33(a), Title 21 of the Code of Federal Regulations (CFR), this is notice that on September 25, 2012, Cayman Chemical Company, 1180 East Ellsworth Road, Ann Arbor, Michigan 48108, made application to the Drug Enforcement Administration (DEA) to be registered as a bulk manufacturer of the following basic classes of controlled substances:

Drug | Schedule
JWH-250 (6250) | I
SR-18 also known as RCS-8 (7008) | I
JWH-019 (7019) | I
JWH-081 (7081) | I
SR-19 also known as RCS-4 (7104) | I
JWH-122 (7122) | I
AM-2201 (7201) | I
JWH-203 (7203) | I
2C-T-2 (7385) | I
JWH-398 (7398) | I
Psilocybin (7437) | I
Psilocyn (7438) | I
2C-D (7508) | I
2C-E (7509) | I
2C-H (7517) | I
2C-I (7518) | I
2C-C (7519) | I
2C-N (7521) | I
2C-P (7524) | I
2C-T-4 (7532) | I
AM-694 (7694) | I
Phenylacetone (8501) | I

The company plans to manufacture the listed controlled substances for distribution to their research and forensics customers conducting drug testing and analysis.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODL), 8701 Morrissette Drive, Springfield, Virginia 22152; and must be filed no later than January 22, 2013.

Dated: November 14, 2012.
Joseph T. Rannazzisi,
Deputy Assistant Administrator, Office of Diversion Control, Drug Enforcement Administration.

[FR Doc. 2012-28486 Filed 11-21-12; 8:45 am]

BILLING CODE 4410-09-P